HARRY S. TRUMAN SCHOLARSHIP FOUNDATION

Sunshine Act Meeting; Meeting of the Trustees and Officers of the Harry S. Truman Scholarship Foundation—Change of Meeting Date and Time

The meeting date and time announced on October 3, 2005 (70 FR 57599) has been changed. The meeting will now be held on November 16, 2005 from 11 a.m. to 1 p.m. at the Cannon House Office Building, Room 121. The agenda remains unchanged.

Louis H. Blair,
Executive Secretary.

[FR Doc. 05-21185 Filed 10-19-05; 11:19 am]

BILLING CODE 6820-AD-P